DEPARTMENT OF TRANSPORTATION

Federal Highway Administration

[Docket No. FHWA-2010-0007]

Agency Information Collection Activities: Notice of Request for Extension of Currently Approved Information Collection

AGENCY: Federal Highway Administration (FHWA), DOT.

ACTION: Notice of request for extension of currently approved information collection.

SUMMARY: The FHWA invites public comments about our intention to request the Office of Management and Budget's (OMB) approval for a new information collection, which is summarized below under SUPPLEMENTARY INFORMATION. We published a Federal Register Notice with a 60-day public comment period on this information collection on November 27, 2009. We are required to publish this notice in the Federal Register by the Paperwork Reduction Act of 1995.

DATES: Please submit comments by March 1, 2010.

ADDRESSES: You may submit comments identified by DOT Docket ID Number FHWA-2010-0007, by any of the following methods:

Web Site: For access to the docket to read background documents or comments received go to the Federal eRulemaking Portal: at http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: Docket Management Facility, U.S. Department of Transportation, West Building Ground Floor, Room W12-140, 1200 New Jersey Avenue, SE., Washington, DC 20590, between 9 a.m. and 5 p.m., Monday through Friday, except Federal holidays.

FOR FURTHER INFORMATION CONTACT: Gary Jensen, 202-366-2048, Office of Planning, Environment & Realty, HEP-2, Federal Highway Administration, U.S. Department of Transportation, 1200 New Jersey Avenue, SE., Washington, DC 20590, between 7:30 a.m. to 4:30 p.m., Monday through Friday, except Federal holidays.

SUPPLEMENTARY INFORMATION: Title: National Scenic Byways Program.

OMB Control #: 2125-0611.

Form #: FHWA-1569, FHWA-1570, FHWA-1577.

Background: The National Scenic Byways Program was established under the Intermodal Surface Transportation Efficiency Act of 1991, and reauthorized in 1998 under the Transportation Equity Act for the 21st Century. Under the program, the U.S. Secretary of Transportation recognizes certain roads as National Scenic Byways or All-American Roads based on their archaeological, cultural, historic, natural, recreational, and scenic qualities. There are 151 such designated byways in 46 states, which the FHWA promotes as the America's Byways. It is a voluntary, grassroots program that recognizes and supports outstanding roads while providing resources to help manage the intrinsic qualities within the broader byway corridor to be treasured and shared. The vision of the FHWA's National Scenic Byways Program is to create a distinctive collection of American roads, their stories and treasured places. The program's mission is to provide resources to the byway community in creating a unique travel experience and enhanced local quality of life through efforts to preserve, protect, interpret, and promote the intrinsic qualities of designated byways. Title 23, Section 162 of the United States Code lays out the statutory structure of the National Scenic Byways Program. This legislation was most recently amended in 2005 upon passage of the Public Law 109-59 Safe, Accountable, Flexible, and Efficient Transportation Equity Act—A Legacy for Users (SAFETEA-LU). The legislation includes provisions for review and dissemination of grant monies by the U.S. Secretary of Transportation. Grant applications are solicited on an annual basis. Eligible projects are on State designated byways, National Scenic Byways, All-American Roads, or Indian Tribe Scenic Byways. Applications are completed by Federal, State, or local governmental agencies; Tribal Governments; and non-profit organizations. The application information is collected electronically via the online Grant system and is used to determine project eligibility. The legislation also includes information about the nomination of scenic byways to become one of America's Byways, a collection of distinct and diverse roads designated by the U.S. Secretary of Transportation. America's Byways include the National Scenic Byways and All-American Roads. Additional information on the National Scenic Byways Program, its grant program, and the nomination process is available at http://www.bywaysonline.org.

Grants Respondents: In a typical grants cycle, it is estimated that 400 applications will be received. These applications will be submitted online and reviewed for eligibility through a process involving State Byway or Indian Tribe Scenic Byway Coordinators and FHWA division offices before being submitted to FHWA Headquarters for funding consideration. Respondents include: 50 State Departments of Transportation, the District of Columbia and Puerto Rico (Right-of-Way Department), Federal Land Management Agencies, State and local governments, non-profit agencies, and Tribal Governments.

Frequency: Annual.

Estimated Average Burden per Response: 16 hours.

Estimated Sub-Total Annual Burden Hours: 6,400 hours.

Nominations Respondents: Based on previous nomination cycles, it is estimated that a total of 75 nominations will be received, originating from any local government, including Tribal Governments, or any private group or individual. Nominations may also originate from the U.S. Forest Service, the National Park Service, the Bureau of Land Management, or the Bureau of Indian Affairs. Roads determined to be appropriate for nomination by the State, an Indian tribe, or a Federal land management agency based on its intrinsic qualities must first be designated as a State Scenic Byway, an Indian Tribe Scenic Byway, or, in the case of a road on federal land, as a Federal Land Management Agency Byway.

Frequency: Biannual.

Estimated Average Burden per Response: 200 hours.

Estimated Sub-Total Annual Burden Hours: 15,000 hours.

Estimate Total Annual Burden Hours: 21,400.

Authority: The Paperwork Reduction Act of 1995; 44 U.S.C. Chapter 35, as amended; and 49 CFR 1.48.

Issued on: January 20, 2010.
Juli Huynh,
Chief, Management Programs and Analysis Division.

[FR Doc. 2010-1699 Filed 1-27-10; 8:45 am]

BILLING CODE 4910-22-P